OFFICE OF THE UNITED STATES TRADE REPRESENTATIVE

[Docket No. USTR-2010-0015]

Notice and Request for Comments: Canada—Compliance With Softwood Lumber Agreement

AGENCY: Office of the United States Trade Representative.

ACTION: Notice and request for public comment.

SUMMARY: Under the 2006 Softwood Lumber Agreement (SLA), Canada agreed to impose export measures on Canadian exports of softwood lumber products to the United States. At the request of the United States, an arbitral tribunal established under the SLA determined in March 2008 that Canada had breached certain SLA obligations. In February 2009, the tribunal issued a remedy award requiring Canada to collect an additional 10 percent ad valorem export charge on softwood lumber shipments from Ontario, Quebec, Manitoba, and Saskatchewan, until an entire amount of CDN $ 68 million has been collected. Canada did not begin collecting the additional export charge. In April 2009, the United States Trade Representative (“Trade Representative”) initiated an investigation under Section 302 of the Trade Act of 1974, as amended (“Trade Act”). In that investigation, the Trade Representative determined that Canada's failure to implement the tribunal's remedy award had the effect of denying U.S. rights under the SLA; and, pursuant to Section 301 of the Trade Act, the Trade Representative imposed 10 percent ad valorem duties on imports of softwood lumber products subject to the SLA from the provinces of Ontario, Quebec, Manitoba, and Saskatchewan (the April 2009 action). Under the April 2009 action, the duties are to remain in place until such time as the United States collects $54.8 million, the U.S. dollar equivalent of CDN $ 68 million at the time. The Government of Canada, however, is now taking steps toward adopting its own measure to address Canada's breach of the SLA, in the form of legislation requiring the collection of an additional 10 percent charge on exports from the provinces of Ontario, Quebec, Manitoba, and Saskatchewan. In the event that the proposed bill becomes law by receiving royal assent, and if the Trade Representative finds that the law satisfactorily grants the rights of the United States under the SLA, the Trade Representative may modify or terminate the April 2009 action. Interested persons are invited to submit comments on the possible modification or termination of the April 2009 action.

DATES: To be assured of consideration, comments should be submitted by no later than 5 p.m. on June 14, 2010, although USTR will continue to accept comments after that date.

ADDRESSES: Non-confidential comments (as explained below) should be submitted electronically via the Internet at http://www.regulations.gov, docket number USTR-2010-0015. If you are unable to provide submissions by http://www.regulations.gov, please contact Sandy McKinzy at (202) 395-9483 to arrange for an alternative method of transmission. If (as explained below) the comments contain confidential information, the person wishing to submit such comments should contact Sandy McKinzy at (202) 395-9483.

FOR FURTHER INFORMATION CONTACT: John Melle, Deputy Assistant USTR for the Americas, (202) 395-3412, or Suzanne Garner, Assistant General Counsel, (202) 395-3581, for questions concerning the enforcement of U.S. rights under the SLA; William Busis, Associate General Counsel and Chair of the Section 301 Committee, (202) 395-3150, for questions concerning procedures under Section 301; or Gwendolyn Diggs, Staff Assistant to the Section 301 Committee, (202) 395-5830, for questions concerning procedures for filing submissions in response to this notice.

SUPPLEMENTARY INFORMATION:

A. Enforcement of U.S. Rights Under the SLA

For further information concerning U.S. rights under the SLA and the April 2009 action, see Initiation of Section 302 Investigation, Determination of Action Under Section 301, and Request for Comments: Canada—Compliance With Softwood Lumber Agreement, 74 FR 16,436 (April 10, 2009) (notice); 74 FR 17,276 (April 14, 2009) (annex).

B. Canada's Steps Toward Addressing the Breach of the SLA

On March 4, 2010, the Canadian Parliament introduced as part of the Federal budget an amendment to the Softwood Lumber Products Export Charge Act, 2006. The amendment provides for the collection of an additional export charge of 10 percent on softwood lumber products from the provinces of Ontario, Quebec, Manitoba, and Saskatchewan. The amendment might become law as soon as mid-June 2010.

C. Possible Modification or Termination of April 2009 Action

The Trade Act authorizes the Trade Representative to modify or terminate an action taken under Section 301 if, among other things, “the foreign country is taking satisfactory measures to grant the rights of the United States under a trade agreement.” Sections 301(a)(2)(B)(i) and 307(1)(A). If the proposed amendment becomes law, the Trade Representative may consider whether Canada is taking satisfactory measures to grant the rights of the United States under the SLA, and if so, may decide on an appropriate modification or termination of the April 2009 action.

Pursuant to Section 306(a) of the Trade Act, if the Trade Representative finds that the additional 10 percent export charge is a satisfactory measure, the Trade Representative will continue to monitor the implementation of such measure. Pursuant to Section 306(b), if the Trade Representative considers that Canada is not satisfactorily implementing the measure, the Trade Representative will determine what further action to take under Section 301.

D. Request for Public Comment

The Section 301 Committee invites comments from interested persons with respect to the possible modification or termination of the April 2009 action in the event the Government of Canada adopts a law imposing an additional 10 percent export charge on softwood lumber from the provinces of Ontario, Quebec, Manitoba, and Saskatchewan. This request includes comments on the appropriate methodology for transitioning from the current U.S.-collected 10 percent duties to the 10 percent export charge to be collected by the Government of Canada.

To submit comments via http://www.regulations.gov, enter docket number USTR-2010-0015 on the home page and click “Search”. The site will provide a search-results page listing all documents associated with this docket. If this notice is not listed on the search-results page, find a reference to this notice by selecting “Notice” under “Document Type.” Upon locating a reference to this notice, click on the link entitled “Submit Comment.”

The www.regulations.gov site provides the option of providing comments by filling in a comments field, or by attaching a document. Given the detailed nature of the comments sought by the Section 301 Committee, all comments should be provided in an attached document. Submissions must state clearly the position taken and describe with specificity the supporting rationale and must be written in English. After attaching the document, it is sufficient to type “See attached” in the comments field.

Comments will be placed in the docket and open to public inspection pursuant to 15 CFR 2006.13, except confidential business information exempt from public inspection in accordance with 15 CFR 2006.15 or information determined by USTR to be confidential in accordance with 19 U.S.C. 2155(g)(2). Comments may be viewed on the http://www.regulations.gov Web site by entering docket number USTR-2010-0015 in the search field on the home page.

Persons wishing to submit business confidential information must certify in writing that such information is confidential in accordance with 15 CFR 2006.15(b), and such information must be clearly marked “BUSINESS CONFIDENTIAL” at the top and bottom of the cover page and each succeeding page. Any comment containing business confidential information must be accompanied by a non-confidential summary of the confidential information. The non-confidential summary will be placed in the docket and open to public inspection. Comments containing business confidential information should not be submitted via the www.regulations.gov Web site. Instead, persons wishing to submit comments containing business confidential information should contact Sandy McKinzy at (202) 395-9483.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

The non-confidential summary will be placed in the docket and open to public inspection. Comments submitted in confidence should not be submitted via the www.regulations.gov Web site. Instead, persons wishing to submit such comments should contact Sandy McKinzy at (202) 395-9483.

William L. Busis,
Chair, Section 301 Committee.

[FR Doc. 2010-12951 Filed 5-27-10; 8:45 am]

BILLING CODE 3190-W0-P